DEPARTMENT OF ENERGY

Notice of Intent To Prepare a Programmatic Environmental Impact Statement for the Hawai‘i Interisland Renewable Energy Program: Wind (DOE/EIS-0459)

AGENCY: Department of Energy (DOE).

ACTION: Notice of intent to prepare a Programmatic Environmental Impact Statement (EIS).

SUMMARY: DOE announces its intention to prepare a Programmatic EIS with the State of Hawai‘i as joint lead agencies pursuant to the National Environmental Policy Act (NEPA) of 1969 and the Hawai‘i Environmental Policy Act. The Hawai‘i Interisland Renewable Energy Program: Wind Programmatic Environmental Impact Statement (hereinafter referred to as the Hawai‘i Wind EIS or the EIS) will assess the foreseeable environmental impacts which may arise from wind energy development under the Hawai‘i Interisland Renewable Energy Program (HIREP). Hawai‘i proposes to facilitate the development of wind-generated electric energy and the required improvements to the existing electric transmission infrastructure in Hawai‘i. This EIS is the first phase of a programmatic environmental review of developing and increasing renewable energy technologies in Hawai‘i.

DATES: The public scoping period starts with the publication of this Notice in the Federal Register. Comments on the scope of the EIS should be submitted by March 1, 2011. Comments e-mailed or postmarked after that date will be considered to the extent practicable. DOE and Hawai‘i will hold public scoping meetings in the first quarter of 2011. Dates will be announced in the Federal Register, on the DOE NEPA Web site at http://www.nepa.energy.gov, on the EIS Web site at http://www.hirep-wind.com, and in local media at least 15 days before each meeting.

ADDRESSES: DOE and Hawai‘i will announce locations of scoping meetings as indicated in DATES. Send comments on the scope of the Hawai‘i Wind EIS or a request to be added to the EIS distribution list:

• By e-mail to comments@hirep-wind.com.

• By submitting electronic comments on the EIS Web page at http://www.hirep-wind.com.

• By facsimile (fax) to 808-586-2536, Attention Allen G. Kam.

• By mail to Allen G. Kam, Esq., AICP, HIREP EIS Manager, State of Hawai‘i, Department of Business, Economic Development and Tourism, Renewable Energy Branch, State Energy Office, P.O. Box 2359, Honolulu, HI 96804.

Information on the HIREP: Wind Phase is available at the EIS Web site at http://www.hirep-wind.com. This Notice of Intent, and the draft and final EIS when issued, also will be posted on the DOE NEPA Web site at http://www.nepa.energy.gov. These documents and additional materials relating to this EIS will be available at:

• Hawai‘i State Library, 478 South King Street, Honolulu HI 96813.

• Lāna‘i Public and School Library, 555 Fraser Ave, Lāna‘i City, HI 96763.

• Wailuku Public Library, 251 High Street, Wailuku, HI 96793.

• Moloka‘i Public Library, 15 Alamalama, Kaunakakai, HI 96748.

• Edwin H. Mo‘okini Library, University of Hawai‘i-Hilo, 200 West Kāwili Street, Hilo, HI 96720-4091.

• Kailua-Kona Public Library, 75-138 Hualālai Road, Kailua-Kona, HI 96740-1704.

• Līhu‘e Public Library, 4344 Hardy Street, Līhu‘e, HI 96766.

• DOE Freedom of Information Act Public Reading Room, 1000 Independence Avenue, SW., Washington, DC 20585.

FOR FURTHER INFORMATION CONTACT: For information on DOE's proposed action, contact Anthony J. Como, DOE NEPA Document Manager, Office of Electricity Delivery and Energy Reliability (OE-20), U.S. Department of Energy, 1000 Independence Avenue, SW., Washington, DC 20585; or at anthony.como@hq.doe.gov. For general information about the DOE NEPA process, contact Carol Borgstrom, Director, Office of NEPA Policy and Compliance (GC-54), U.S. Department of Energy, 1000 Independence Avenue, SW., Washington, DC 20585; or at 800-472-2756 or askNEPA@hq.doe.gov.

For information on the Hawai‘i Interisland Renewable Energy Program, contact Mr. Allen G. Kam, Esq., AICP, HIREP EIS Manager, State of Hawai‘i, Department of Business, Economic Development and Tourism, Renewable Energy Branch, State Energy Office, P.O. Box 2359, Honolulu, HI 96804; or at 808-587-9023 or hirep@dbedt.hawaii.gov.

SUPPLEMENTARY INFORMATION:

1. Background

Section 355 of the Energy Policy Act of 2005 (EPAct) requires the Secretary of Energy to assess the economic implications of the dependence of the State of Hawai‘i on oil as a principal source of energy, including the technical and economic feasibility of increasing the contribution of renewable energy resources for the generation of electricity on an island by island basis. Such an assessment is to include, among other factors, siting and facility configuration, the effects on utility system reliability, and environmental considerations. In furtherance of the provisions of section 355 of EPAct, DOE and Hawai‘i executed a Memorandum of Understanding (MOU) in January 2008 that established the Hawai‘i Clean Energy Initiative (HCEI) and a long-term partnership between DOE and Hawai‘i to implement the initiative. HCEI has a goal of providing 70 percent of the state's primary energy from clean energy sources by 2030 by replacing 40 percent of fossil fuel use with renewable energy and reducing energy consumption by 30 percent through energy efficiency measures. Of the alternative renewable energy sources available in Hawai‘i—including wind, geothermal, solar, biomass, ocean thermal energy conversion, and wave—wind power has been identified as the most commercially available and economically viable option at the present time. The island of O‘ahu, with 80 percent of the state's population, is the island with the greatest energy demand; however, the island does not contain sufficient renewable energy potential to meet the HCEI's goals. The islands of Maui, Lāna‘i, and Moloka‘i have the most abundant and viable wind resources of those islands closest to O‘ahu. The analysis provided in the O‘ahu Wind Integration and Transmission Study (November 2010) (additional information at http://www.nrel.gov/wind/systemsintegration/owits.html), prepared by DOE's National Renewable Energy Laboratory, concluded that bringing 400 megawatts (MW) of wind-generated power to O‘ahu via undersea cable (i.e., the Hawai‘i Interisland Wind Program) is technically feasible and should be considered an important part in reaching the HCEI's goals. Subsequent environmental reviews may address non-wind renewable technologies.

2. Environmental Review Process

The Hawai‘i Wind EIS will be prepared pursuant to NEPA, as amended, the Council on Environmental Quality (CEQ) NEPA regulations (40 CFR parts 1500-1508), the DOE NEPA implementing procedures (10 CFR part 1021), and the Hawai‘i Environmental Policy Act (Hawai`i Revised Statutes (HRS) chapter 343). The EIS will assess the potential environmental impacts from the development of wind generation facilities, the transmission required to deliver the wind-generated energy to O‘ahu, and the required improvements to the existing electric transmission infrastructure on O‘ahu. Because the proposed actions and alternatives may involve activities in floodplains and wetlands, the draft EIS may include a floodplain and wetland assessment prepared in accordance with 10 CFR part 1022, Compliance with Floodplain and Wetland Environmental Review Requirements. The proposed actions and alternatives will involve undersea transmission cables that will transect federal Outer Continental Shelf waters, where the Department of the Interior's Bureau of Ocean Energy Management, Regulation and Enforcement (BOEMRE) has exclusive authority over right-of-way grants for undersea renewable energy transmission cables.

DOE and Hawai‘i invite agencies, Native Hawaiian and other organizations, and members of the public to participate in developing the scope of the EIS—that is, the proposed actions, the range of reasonable alternatives and environmental impacts and other issues to be considered—by submitting written comments and by participating in public scoping meetings that DOE and Hawai‘i will conduct jointly. DOE and Hawai‘i also invite those agencies with jurisdiction by law or special expertise to be cooperating agencies in EIS preparation.

3. DOE Purpose and Need for Agency Action and Proposed Action

DOE's purpose and need for agency action is to meet its obligations under section 355 of EPAct and the 2008 MOU with Hawai‘i to transform the way in which renewable energy and efficiency resources are planned and used in the State. DOE's proposed action is to work with and support Hawai‘i in the implementation of the HCEI.

4. Hawai‘i's Purpose and Need for State Action and Proposed Action

Hawai‘i's purpose and need for action is to determine how to use its wind energy resources to meet the 2030 goals set forth in the HCEI. Hawai`i's proposed action is to facilitate renewable energy development that will be required for the State of Hawai‘i to meet the HCEI renewable energy goals, including the development of wind resources on the islands of Maui, Lāna‘i, and/or Moloka‘i and the required improvements to the existing electric transmission infrastructure, including undersea cables to transmit renewable energy generation to O‘ahu.

5. Alternatives

Alternatives to be analyzed in this EIS include the proposed action, which would provide for the implementation of an oversight program to develop up to 400 MW of wind energy on the Maui County islands of Maui, Lāna‘i, and/or Moloka‘i and transmission of that energy to O‘ahu. A range of wind development projects could be pursued under the proposed action, and include varying power capacities and configurations among the islands, undersea cable corridors and routes, and locational criteria for landing sites (see www.hirep-wind.com for additional information including conceptual maps). The EIS will address scenarios under the proposed action that consider a programmatic approach to all wind energy deriving from a single island in Maui County (i.e., Maui, Lāna‘i, or Moloka‘i) and all wind energy deriving from a combination of generation on two or more islands in Maui County, along with associated programmatic approaches to cable corridors and routes and landing site locations. The EIS will also analyze a no-action alternative.

6. Preliminary Identification of Environmental Issues

The EIS will evaluate the full range of potential environmental, social, cultural, and economic impacts associated with a proposed wind energy program encompassing the islands of Maui, Lāna‘i and Moloka‘i and use areas on O‘ahu. The EIS also will include a cultural impact assessment prepared in accordance with Hawai‘i law, specifically Act 50, SLH 2000.

Impacts will be analyzed across a number of resource areas, including:

• Air quality (including climate change and greenhouse gas emissions).

• Water resources and drainage.

• Coastal zone resources.

• Geography, geology, and soils.

• Land and submerged land use.

• Threatened and endangered species, special status species, and related sensitive resources such as the Hawaiian Islands Humpback Whale National Marine Sanctuary.

• Land transportation.

• Marine transportation and commerce.

• Airspace utilization.

• Public health and safety.

• Noise.

• Natural hazards.

• Hazardous materials.

• Accidents and intentional destructive acts.

• Cultural and historical resources.

• Recreational resources.

• Visual resources.

• Socioeconomic impacts, community services and infrastructure.

• Environmental justice considerations (disproportionately high and adverse impacts to minority and low income populations).

• Cumulative impacts (past, present, and reasonably foreseeable future actions).

• Irreversible and irretrievable commitments of resources.

The programmatic analysis will identify best management practices, outline regulatory procedures, address mitigation of environmental impacts and support the development of general guidance for major components of an interisland undersea cable energy grid for the transmission of wind energy.

7. Public Participation: Scoping, EIS Distribution, Schedule

As indicated in the DATES section, public scoping meetings will be conducted in early 2011. Each scoping meeting will be structured in two parts: first an informal “workshop” discussion period that will not be recorded, then a formal commenting session, which will be transcribed by a court stenographer. The meetings will provide interested parties the opportunity to view exhibits on the HIREP: Wind, ask questions, and submit comments orally or in writing. Representatives from DOE, Hawai‘i, and any cooperating agencies will be available to answer questions and provide additional information to participants. Individuals who submit comments during the scoping process will receive paper or electronic copies of the draft EIS, according to their preference. Persons who do not wish to submit comments or suggestions at this time, but would like to receive a copy of the draft EIS when it is issued should submit a request as provided in the ADDRESSES section and include their preference for a paper or electronic copy.

In preparing the draft EIS, DOE and Hawai‘i will consider comments received during the scoping period. The agencies plan to issue the draft EIS by October 2011. After the agencies issue the draft EIS, the U.S. Environmental Protection Agency will publish a notice of availability of the draft EIS in the Federal Register, which will begin a minimum 45-day public comment period. In addition to and concurrent with this NOI publication in the Federal Register, the State of Hawai‘i is preparing a state-level environmental review notice. That notice along with this NOI will be published in the State of Hawai‘i Environmental Notice consistent with all state requirements.

The agencies will announce how to comment on the draft EIS and will hold public hearings during the public comment period, but no sooner than 15 days after the notice of availability is published. In preparing the final EIS, the agencies will respond to comments received on the draft EIS. The agencies plan to issue the final EIS by April 2012. No sooner than 60 days after the Environmental Protection Agency publishes a Notice of Availability of the final EIS, DOE and Hawai‘i will each issue its Record of Decision regarding their actions considered in the EIS.

Issued in Washington, DC, on December 8, 2010.
Patricia A. Hoffman,
Assistant Secretary, Office of Electricity Delivery and Energy Reliability.

[FR Doc. 2010-31310 Filed 12-13-10; 8:45 am]

BILLING CODE 6450-01-P